DEPARTMENT OF ENERGY

Federal Energy Regulatory Commission

[Docket No. RP01-475-000]

Transwestern Pipeline Company; Notice of Proposed Changes in FERC Gas Tariff

July 10, 2001.

Take notice that on July 2, 2001, Transwestern Pipeline Company (Transwestern) tendered for filing as part of its FERC Gas Tariff, Second Revised Volume No. 1, 19 Revised Sheet No. 48 and First Revised Sheet No. 97, proposed to be effective August 1, 2001.

Transwestern is filing these tariff sheets to amend the current language in Transwestern's FERC Gas Tariff to include a general statement that the “shipper must hold title” policy is waived to the extent that Transwestern renders service for others using off-system capacity pursuant to its existing tariff and rates. In addition, this filing provides that Transwestern will acquire off-system capacity on Public Service Company of New Mexico pursuant to such generic authorization.

Transwestern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-17674 Filed 7-13-01; 8:45 am]

BILLING CODE 6717-01-P